DEPARTMENT OF AGRICULTURE

Food Safety and Inspection Service

[Docket No. 01-011N]

Codex Alimentarius: Meeting of the Codex ad hoc Intergovernmental Task Force on Animal Feeding

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting, on Tuesday, March 6, 2001. The purpose of this meeting is to provide information and receive public comments on agenda items that will be discussed at the 2nd Session of the Codex ad hoc Intergovernmental Task Force on Animal Feeding, which will be held in Copenhagen, Denmark, on March 19-21, 2001. USDA and FDA recognize the importance of providing interested parties the opportunity to obtain background information on the 2nd Session of the Codex ad hoc Intergovernmental Task Force on Animal Feeding and to address items on the Agenda.

DATES: The public meeting is scheduled for Tuesday, March 6, 2001, from 9 a.m. to 1 p.m.

ADDRESSES: The public meeting will be held in the Conference Room M of the Parklawn Building, 5600 Fishers Lane, Rockville, Maryland 20855 (Twinbrook Metro Station on the Red Line). Reference documents will be available for review in the FSIS Docket Room, U.S. Department of Agriculture, Food Safety and Inspection Service, Room 102 Cotton Annex, 300 12th Street, SW., Washington, DC 20250-3700. The documents will also be accessible via the World Wide Web at the following address: http://www.fao.org/waicent/faoinfo/economic/esn/codex/ccaf02/af01_01e.htm.

Submit one original and two copies of written comments to the FSIS Docket Room and at the address above and reference docket number 01-011N. All comments submitted in response to this notice will be available for public inspection in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250. Telephone (202) 205-7760, Fax: (202) 720-3157. Persons requiring a sign language interpreter or other special accommodations should notify Mr. Clerkin at the above number.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex ad hoc Intergovernmental Task Force on Animal Feeding was established by the 23rd Session of the Codex Alimentarius Commission to develop Guidelines or Standards as appropriate on Good Animal Feeding practices with the aim of ensuring the safety and quality of foods of animal origin. The ad hoc Task Force is chaired by Denmark.

Issues To Be Discussed at the Public Meeting

The provisional agenda items to be discussed during the public meeting:

1. Information paper compiling a list of internationally available standards and validated methods for the examination of animal feed.

2. Information paper on lists established by different governments to control the use of prohibited and undesirable substances in animal feed or other approaches.

3. Consideration of the Revised Draft Code of Practice on Good Animal Feeding at Step 4.

Public Meeting

At the March 6th public meeting, the agenda items will be described, discussed, and attendees will have the opportunity to pose questions and offer comments. Comments may be sent to the FSIS Docket Room (see ADDRESSES). Written comments should state that they relate to activities of the 2nd ad hoc International Task Force on Animal Feeding.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on March 1, 2001.
F. Edward Scarbrough,
U.S. Manager for Codex Alimentarius.

[FR Doc. 01-5420 Filed 3-5-01; 8:45 am]

BILLING CODE 3410-DM-P